DEPARTMENT OF THE INTERIOR

Bureau of Land Management

[LLNMP02000 L14400000 ET0000 NMNM52395]

Public Land Order 7888; Partial Revocation of Secretarial Order Dated December 22, 1928; New Mexico

AGENCY: Bureau of Land Management, Interior.

ACTION: Public Land Order (PLO).

SUMMARY: This Order revokes a withdrawal created by a Secretarial Order insofar as it affects 41.24 acres of public land withdrawn for use by the Bureau of Reclamation (BOR) in connection with the Carlsbad Project (Avalon Reservoir). The BOR no longer needs the land for project purposes. This Order opens the land to the operation of the public land laws subject to valid existing rights. The land has been and will remain open to mineral leasing and will remain closed to location and entry under the United States mining laws.

DATES: This PLO takes effect on January 3, 2020.

FOR FURTHER INFORMATION CONTACT: Debby Lucero, BLM, New Mexico State Office, 301 Dinosaur Trail, Santa Fe, New Mexico 87507, 505-954-2196, or via email at dlucero@blm.gov. Persons who use a telecommunications device for the deaf (TDD) may call the Federal Relay Service (FRS) at 1-800-877-8339 to contact the above individual. The FRS is available 24 hours a day, 7 days a week, to leave a message or question with the above individual. You will receive a reply during normal business hours.

SUPPLEMENTARY INFORMATION: The BOR has determined that the land is excess to its project needs and has requested a partial revocation of the withdrawal.

Order

By virtue of the authority vested in the Secretary of the Interior by Section 204 of the Federal Land Policy and Management Act of 1976, 43 U.S.C. 1714, it is ordered as follows:

1. The withdrawal created by the Secretarial Order dated December 22, 1928, that reserved lands on behalf of the BOR in connection with the Carlsbad Project (Avalon Reservoir), is hereby revoked insofar as it affects the following described land:

New Mexico Principal Meridian

T. 21 S., R. 26 E.,

sec. 26, lot 1.

The area described contains 41.24 acres, in Eddy County.

2. At 9 a.m. on January 3, 2020, the land will be opened to the operation of the public land laws, subject to valid existing rights, the provisions of existing withdrawals, other segregations of record, and the requirements of applicable law. The land will remain closed to operation of the United States mining laws. All valid applications received at or prior to 9 a.m. on January 3, 2020, shall be considered as simultaneously filed at that time. Those received thereafter shall be considered in the order of filing.

Dated: November 25, 2019.
Timothy R. Petty,
Assistant Secretary for Water and Science.

[FR Doc. 2019-26213 Filed 12-3-19; 8:45 am]

BILLING CODE 4310-FB-P